FEDERAL MARITIME COMMISSION

[Docket No. 12-06]

Shipco Transport Inc. v. Jem Logistics, Inc., and Andi Georgescu, an Individual and D/B/A Jem Logistics, Inc.; Notice of Filing of Complaint and Assignment

Notice is given that a complaint has been filed with the Federal Maritime Commission (Commission) by Shipco Transport Inc. (Shipco), hereinafter “Complainant,” against Jem Logistics, Inc., and Andi Georgescu, an individual and doing business as Jem Logistics, Inc., hereinafter “Respondents.” Complainant asserts that it is a non-vessel-operating common carrier (NVOCC) licensed by the FMC and incorporated in the State of New Jersey. Complainant alleges that Respondent Jem Logistics, Inc. is a corporation incorporated in the State of California and that Respondent Andi Georgescu is a resident of California and principal owner and president of Jem Logistics.

Complainant alleges that Respondent “Jem Logistics misrepresented to Shipco * * * that it was, in fact, an FMC-licensed NVOCC,” but that “Jem Logistics was not the NVOCC it purported to be, and is not now nor was it at any time herein mentioned licensed by the Federal Maritime Commission (FMC).” Complainant alleges that Respondents “falsely used the name of a licensed and bonded NVOCC, Aromark Shipping LLC (Aromark).” Complainant also alleges that Respondents failed to pay Complainant for shipment of a vehicle after the cargo was abandoned.

Therefore Complainant alleges that Respondent has violated 46 U.S.C. 40901 and 40902 by its failure to be licensed and bonded and 46 U.S.C. 41102, “by attempting to obtain Shipco shipping services relating to freight charges without paying for demurrage and removal of cargo upon abandonment in the absence of a bond to secure Respondent's payment.”

Complainant requests that the Commission order Respondents to ”make reparations to Complainant Shipco in the amount of $15,872.90 for failure to pay demurrage and disposal of the abandoned cargo” as well as attorney's fees and expenses and “six per cent interest on amounts consisting of demurrage and disposal of cargo together with additional interest provided by law.” The full text of the complaint can be found in the Commission's Electronic Reading Room at www.fmc.gov.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by April 23, 2013 and the final decision of the Commission shall be issued by August 21, 2013.

Karen V. Gregory,
Secretary.

[FR Doc. 2012-10147 Filed 4-26-12; 8:45 am]

BILLING CODE 6730-01-P